DEPARTMENT OF ENERGY

Proposed Agency Information Collection Regarding Coordination of Federal Authorizations for Electric Transmission Facilities

AGENCY: Office of Electricity, Department of Energy.

ACTION: Notice and request for comments.

SUMMARY: The Department of Energy (DOE) invites public comment on a proposed extension of a collection of information that DOE is developing for submission to the Office of Management and Budget (OMB) pursuant to the Paperwork Reduction Act of 1995.

DATES: Comments regarding this proposed information collection extension must be received on or before November 24, 2020. If you anticipate difficulty in submitting comments within that period, contact the person listed in ADDRESSES as soon as possible.

ADDRESSES: Comments may be sent to Christopher A. Lawrence, Transmission Permitting and Technical Assistance, Office of Electricity, U.S. Department of Energy, Washington, DC, Christopher.lawrence@hq.doe.gov.

FOR FURTHER INFORMATION CONTACT: Requests for additional information or copies of the information collection instrument and instructions should be directed to Christopher A. Lawrence, at Christopher.Lawrence@hq.doe.gov or 202-586-5260.

SUPPLEMENTARY INFORMATION: This information collection request contains: (1) OMB No.: 1910-5185; (2) Information Collection Request Title: Coordination of Federal Authorizations for Electric Transmission Facilities; (3) Type of Request: Extension; (4) Purpose: To meet requirements found in Section 216(h)(4)(c) of the Federal Power Act directing DOE to establish a pre-application process for qualifying electric transmission projects requiring multiple Federal authorizations. Section 216(h)(3) also allows an applicant to seek assistance for non-qualifying projects. Data supplied will be used to support an Initiation Request necessary to begin DOE's coordination assistance and must include, based on best available information, a Summary of Qualifying Project, Affected Environmental Resources and Impacts Summary, associated Maps, Geospatial Information, and Studies (provided in electronic format), and a Summary of Early Identification of Project Issues. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. This data will also be used to conduct audits and for enforcement purposes. There has been no collection under this authority since its inception. (5) Annual Estimated Number of Respondents: 5, as this collection is addressed to portion of the electric utility industry; (6) Annual Estimated Number of Burden Hours: 55 minutes per response; (7) Annual Estimated Reporting and Recordkeeping Cost Burden: $5,075.84.

Statutory Authority: Federal Power Act, Sections 216(h)(3) and 216(h)(4)(c).

Signing Authority

This document of the Department of Energy was signed on September 18, 2020, by Bruce J. Walker, Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 22, 2020.
Treena V. Garrett,
Federal Register Liaison Officer, U.S. Department of Energy.

[FR Doc. 2020-21170 Filed 9-24-20; 8:45 am]

BILLING CODE 6450-01-P